ENVIRONMENTAL PROTECTION AGENCY

40 CFR Part 52

[EPA-R09-OAR-2025-0317, EPA-R09-OAR-2025-0321, EPA-R09-OAR-2025-0458; FRL-12915-02-R9]

Air Plan Approval; Arizona; Maricopa County Air Quality Department; Volatile Organic Compounds and Particulate Matter; Solvent Cleaning; Architectural Coatings; Incinerators, Burn-Off Ovens, and Crematories

AGENCY: Environmental Protection Agency (EPA).

ACTION: Final rule.

SUMMARY: The Environmental Protection Agency (EPA) is taking final action to approve revisions to the Maricopa County Air Quality Department (MCAQD) portion of the Arizona State Implementation Plan (SIP). These revisions concern emissions of volatile organic compounds (VOC) from solvent cleaning activities and architectural coatings and emissions of particulate matter (PM) from incinerators, burn-off ovens, and crematories. We are approving local rules that regulate these emission sources under the Clean Air Act (CAA or “Act”).

DATES: This rule is effective January 12, 2026.

ADDRESSES: The EPA has established dockets for this action. Docket ID No. EPA-R09-OAR-2025-0317 pertains to Architectural Coatings, Docket ID No. EPA-R09-OAR-2025-0321 pertains to Solvent Cleaning, and Docket ID No. EPA-R09-OAR-2025-0458 pertains to Incinerators, Burn-Off Ovens, and Crematories. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Allison Kawasaki, EPA Region IX, 75 Hawthorne St., San Francisco, CA 94105; telephone number: (415) 972-3922; email address: kawasaki.allison@epa.gov.

SUPPLEMENTARY INFORMATION: Throughout this document, “we,” “us,” and “our” refer to the EPA.

Table of Contents

I. Proposed Action

II. Public Comments and EPA Responses

III. EPA Action

IV. Incorporation by Reference

V. Statutory and Executive Order Reviews

I. Proposed Action

On September 11, 2025 (90 FR 43952, 90 FR 43955, and 90 FR 43983), the EPA proposed to approve the rules listed in table 1 into the Arizona SIP. We also proposed to rescind or replace the rules listed in table 2 from the Arizona SIP.

Table 1—Submitted Rule(s)
Local agency | Rule No. | Rule title | Revised | Submitted
MCAQD | 313 | Incinerators, Burn-Off Ovens, and Crematories | December 11, 2024 | December 23, 2024.
MCAQD | 331 | Solvent Cleaning | September 25, 2024 | October 3, 2024.
MCAQD | 335 | Architectural Coatings | September 25, 2013 | September 8, 2017.
MCAQD | 335 | Architectural Coatings | December 11, 2024 | December 23, 2024.

Table 2—Rules Requested To Be Rescinded or Replaced
Local agency | Rule No. | Rule title | Local revision date | SIP approved date | FR citation
MCAQD | 34—Paragraphs F, G, H, I, J, K | Organic Solvents—Volatile Organic Compounds (VOC) | June 23, 1980 | May 5, 1982 | 47 FR 19326.
MCAQD | 35 | Incinerators | August 12, 1971 | July 27, 1972 | 37 FR 15080.
MCAQD | 331 | Solvent Cleaning | April 21, 2004 | December 21, 2004 | 69 FR 76417.
MCAQD | 335 | Architectural Coatings | July 13, 1988 | January 6, 1992 | 57 FR 354.

We proposed to approve these rules and rule rescissions because we determined that they comply with the relevant CAA requirements. Our proposed actions contain more information on the rules and our evaluation.

II. Public Comments and EPA Responses

The EPA's proposed actions provided a 30-day public comment period. During this period, we received one comment pertaining to MCAQD Rule 313, “Incinerators, Burn-Off Ovens, and Crematories,” revised December 11, 2024 (Rule 313), and five comments pertaining to our proposed approval of MCAQD Rule 331, “Solvent Cleaning,” revised September 25, 2024, (“Rule 331”) and rescission of Paragraphs F, G, H, I, J, K from MCAAQD Rule 34, “Organic Solvents—Volatile Organic Compounds (VOC),” revised June 23, 1980, (Rule 34). No comments were received on our proposal to approve the September 25, 2013 and December 11, 2024 versions of MCAQD Rule 335, “Architectural Coatings” (Rule 335). The full text of these comments is available in the rulemaking dockets. We have summarized these comments and included our responses below.

A. Comments Received on Rule 313

Comment: For Rule 313, the commenter notes that the proposed rule revisions are only relevant to particulate matter and asserts that the incineration process potentially involves the generation and emission of toxic substances such as polyfluoroalkyl (PFA) compounds, dioxins, and heavy metals. The commenter recommends that, to improve overall health for the community, the MCAQD should consider regulating these pollutants from incineration activities in addition to just particulate matter and opacity. The comment also states that “preventative measures must be made to create lasting change in air quality.” Further, the commenter states that the air plan revisions should be used to make “more baseline laws” to stop larger scale pollutants.

Response: The comment is a recommendation for how the MCAQD should revise Rule 313, or local laws, to address other pollutants and not a comment for the EPA on our proposed approval of Rule 313 into the Arizona SIP. The EPA is not able to address a recommendation for MCAQD in our action. In the future, we suggest that the commenter use MCAQD's local rulemaking process for providing these types of recommendations. Further, the EPA's authority for approving SIPs under CAA section 110 is limited to the implementation, maintenance, and attainment of the national ambient air quality standards (NAAQS). The regulation of pollutants that do not pertain to a NAAQS, as the commenter recommends, would be outside the EPA's legal authority for approving SIP revisions. There are federal regulations that further regulate air pollutants emitted by incinerators, including some of the pollutants identified by the commenter, but those regulations are developed under separate CAA authority and do not pertain to SIPs. Our Technical Support Document and MCAQD's submittal discussed these other regulations and are available in the docket for Rule 313 (Docket ID No. EPA-R09-OAR-2025-0458). It is unclear what types of “preventative measures” or “baseline laws” the commenter is recommending, but we understand this comment to be related to the pollutants of concern identified by the commenter and not related to the pollutant regulated by Rule 313, particulate matter.

B. Comments Received on Rule 331 and Rule 34

Four comments of the five comments received on Rules 331 and 34 were supportive of the EPA's September 11, 2025 proposal. We thank the commenters for their support. The fifth comment pertained to a recent Pima County, Arizona, permitting action that is not germane to this rulemaking.

III. EPA Action

No comments were submitted that change our assessment of the rules as described in our proposed actions. Therefore, as authorized in section 110(k)(3) of the Act, the EPA is approving the rules listed in table 1 into the Arizona SIP and rescinding or replacing the rules in table 2. The December 11, 2024 version of Rule 313 will replace MCAQD Rule 35, “Incinerators,” revised August 12, 1971, in the SIP. The September 25, 2024 version of Rule 331 will replace the previously approved version of this rule in the SIP and Rule 34. The September 25, 2013 version of Rule 335 will replace the previously approved version of this rule in the SIP.

IV. Incorporation by Reference

In this document, the EPA is finalizing regulatory text that includes incorporation by reference. In accordance with requirements of 1 CFR 51.5, the EPA is finalizing the incorporation by reference of four Maricopa County Air Quality District Rules:

MCAQD Rule 313—Incinerators, Burn-Off Ovens, and Crematories revised on December 11, 2024, which regulates emissions of particulate matter from incinerators, burn-off ovens, and crematories; MCAQD Rule 331—Solvent Cleaning, revised on September 25, 2024, which regulates emissions of VOC from solvent cleaning and metal degreasing activities; MCAQD Rule 335—Architectural Coatings, revised on September 25, 2013; and Rule 335—Architectural Coatings, revised on December 11, 2024, which regulates emissions of VOC from architectural coatings. In addition, the EPA is finalizing the recission of the incorporation by reference of MCAQD Rule 35—Incinerators and MCAQD Rule 34—Solvent Cleaning, which were previously incorporated by reference into the applicable Arizona SIP. Therefore, these materials have been approved by the EPA for inclusion in the SIP, have been incorporated by reference by the EPA into that plan, are fully federally enforceable under sections 110 and 113 of the CAA as of the effective date of the final rulemaking of the EPA's approval, and will be incorporated by reference in the next update to the SIP compilation.¹ The EPA has made, and will continue to make, these documents available through https://www.regulations.gov and at the EPA Region IX Office (please contact the person identified in the FOR FURTHER INFORMATION CONTACT section of this preamble for more information).

¹ 62 FR 27968 (May 22, 1997).

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act (CRA), and the EPA will submit a rule report to each House of the Congress and to the Comptroller General of the United States. This action is not a “major rule” as defined by 5 U.S.C. 804(2).

Under section 307(b)(1) of the CAA, petitions for judicial review of this action must be filed in the United States Court of Appeals for the appropriate circuit by February 9, 2026. Filing a petition for reconsideration by the Administrator of this final rule does not affect the finality of this action for the purposes of judicial review, nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Ozone, Particulate matter, Reporting and recordkeeping requirements, Volatile organic compounds.

Dated: November 25, 2025.
Michael Martucci,
Acting Regional Administrator, Region IX.

For the reasons stated in the preamble, EPA amends part 52, chapter I, Title 40 of the Code of Federal Regulations as follows:

PART 52—APPROVAL AND PROMULGATION OF IMPLEMENTATION PLANS

1. The authority citation for part 52 continues to read as follows:

Authority: 42 U.S.C. 7401 et seq.

Subpart D—Arizona

2. In § 52.120, in table 4 to paragraph (c):

a. Remove the table headings “Pre-July 1988 Rule Codification”, “Regulation II—Permits” and “Regulation III—Control of Air Contaminants”;

b. Remove the entries for “Rule 34 (paragraphs F, G, H, I, J and K only)” and “Rule 35”;

c. Remove the table headings “Regulation IV—Production of Records; Monitoring; Testing and Sampling Facilities”, “Regulation VII—Emergency Procedures”, and “Post-July 1988 Rule Codification”;

d. Revise the entries for “Rule 313” and “Rule 331”;

e. Remove the entry for “Rule 335”; and

f. Add the entries for “Rule 335 (v. 2013) and “Rule 335 (v. 2024)” in numerical order.

The revisions and additions read as follows:

§ 52.120 Identification of plan.

* * * * *

(c) * * *

Table 4 to Paragraph (c)—EPA-Approved Maricopa County Air Pollution Control Regulations
County citation | Title/subject | State effective date | EPA approval date | Additional explanation
* * * * * * *
Regulation III—Control of Air Contaminants
* * * * * * *
Rule 313 | Incinerators, Burn-Off Ovens, and Crematories | December 11, 2024 | December 11, 2025, 90 FR [insert Federal Register page where the document begins] | Submitted on December 23, 2024.
* * * * * * *
Rule 331 | Solvent Cleaning | September 25, 2024 | December 11, 2025, 90 FR [insert Federal Register page where the document begins] | Submitted electronically on October 3, 2024, as an attachment to a letter dated October 1, 2024. The September 25, 2024 version of Rule 331 replaces the April 21, 2004 version that was approved on December 21, 2004 (69 FR 76417).
* * * * * * *
Rule 335 (v. 2013) | Architectural Coatings | September 25, 2013 | December 11, 2025, 90 FR [insert Federal Register page where the document begins] | Submitted electronically on September 8, 2017.
Rule 335 (v. 2024) | Architectural Coatings | December 11, 2024 | December 11, 2025, 90 FR [insert Federal Register page where the document begins] | Submitted electronically on December 23, 2024. The VOC content limits in table 335-1 of Rule 335 will only become applicable upon a determination by the EPA that either the Phoenix-Mesa nonattainment area failed to attain the 2015 ozone NAAQS by the attainment date or failed to make reasonable further progress. Until such time, the requirements in the September 25, 2013 version of Rule 335 remain applicable.
* * * * * * *

* * * * *

[FR Doc. 2025-22517 Filed 12-10-25; 8:45 am]

BILLING CODE 6560-50-P